ENVIRONMENTAL PROTECTION AGENCY

[FRL-6880-1]

Agency Information Collection Activities: Submission for OMB Review; Comment Request, National Emission Standards for Hazardous Air Pollutants (NESHAP)/Maximum Achievable Control Technology (MACT) for Source Categories Mineral Wool Production

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP/MACT Subpart DDD, National Emission Standards for Hazardous Air Pollutants/Maximum Achievable Control Technology (MACT) for Wool Manufacturing, OMB Control Number 2060-0362, expiration date ­10/31/00. This ICR describes the nature of the information collection and its expected burden and cost; where appropriate, it includes the actual data collection instrument.

DATES: Comments must be submitted on or before November 2, 2000.

ADDRESSES: Send comments, referencing EPA ICR No. 1799.02 and OMB Control No. 2060-0362, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1799.02. For technical questions about the ICR contact Gregory Fried at EPA by phone at (202) 564-7016 or by email at fried.gregory@epa.gov.

SUPPLEMENTARY INFORMATION: Title: ICR for NESHAP/MACT Subpart DDD, National Emission Standards for Hazardous Air Pollutants—Mineral Wool Production, OMB Control Number 2060-0362, EPA ICR No. 1799.02. This is a request for extension of a currently approved collection.

Abstract: The Administrator has judged that Particulate Matter (PM) and Hazardous Air Pollutants (HAP) emissions from mineral wool production plants cause or contribute to air pollution that may reasonably be anticipated to endanger public health or welfare. Owners/operators of mineral wool production plants subject to NESHAP/MACT Subpart DDD must provide notifications to EPA of construction, modification, startups, shut downs, date and results of initial performance tests and provide semiannual reports of excess emissions. Owners/operators of mineral wool production plants are required to install fabric filter bag leak detection systems and then initiate corrective action procedures in the event of an operating problem. Owners/operators of mineral wool production plants subject to NESHAP/MACT Subpart DDD must also continuously monitor and record, (1) The operating temperature of each thermal incinerator, (2) cupola production (melt) rate, and (3) for each curing oven, the formaldehyde content of each binder formulation used to manufacture bonded products. In order to ensure compliance with the standards promulgated to protect public health, adequate reporting and recordkeeping is necessary. In the absence of such information enforcement personnel would be unable to determine whether the standards are being met on a continuous basis, as required by the Clean Air Act.

An agency may not conduct or sponsor, and a person is not required to respond to, a collection of information unless it displays a currently valid OMB control number. The OMB control numbers for EPA's regulations are listed in 40 CFR Part 9 and 48 CFR Chapter 15. The Federal Register document required under 5 CFR 1320.8(d), soliciting comments on this collection of information was published 3/31/00 (65 FR 17258); no comments were received.

Burden Statement: The annual public reporting and recordkeeping burden for this collection of information is estimated to average 222 hours per response. The initial burden regarding notifications (40 CFR 63.9) and performance testing (40 CFR 63.7) for a new source subject to this subpart is estimated to average 615 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Wool Fiberglass Manufacturing Plants.

Estimated Number of Respondents: 13.

Frequency of Response: Initial and semiannual.

Estimated Total Annual Hour Burden: 5,779 hours.

Estimated Total Annualized Capital and Operating & Maintenance Cost Burden: $100,226.

Send comments on the Agency's need for this information, the accuracy of the provided burden estimates, and any suggested methods for minimizing respondent burden, including through the use of automated collection techniques to the following addresses. Please refer to EPA ICR No.1799.02 and OMB Control No. 2060-0362 in any correspondence.

Dated: September 28, 2000.
Oscar Morales,
Director, Collection Strategies Division.

[FR Doc. 00-25348 Filed 10-2-00; 8:45 am]

BILLING CODE 6560-50-P